DEPARTMENT OF EDUCATION

Office of Elementary and Secondary Education, Department of Education; Comprehensive Centers; Notice Inviting Applications for New Awards for Fiscal Year (FY) 2005; Correction

SUMMARY: On June 3, 2005, the Department published in the Federal Register (70 FR 32583) a notice inviting applications for new awards for FY 2005 to establish and operate Comprehensive Centers under Title II of the Educational Technical Assistance Act of 2002 (TA Act).

On page 32589, third column, the additional requirement under the heading “6. Advisory Board” is corrected to read as follows:

6. Advisory Board. Each application must propose, as part of its technical assistance plan, establishing an advisory board to advise the proposed comprehensive center on: (a) The activities of the center relating to its allocation of resources to and within each State in a manner that reflects the need for assistance in accordance with section 203(d) of Title II of the TA Act; (b) strategies for monitoring and addressing the educational needs of the region, on an ongoing basis; (c) maintaining a high standard of quality in the performance of the center's activities; and (d) carrying out the center's duties in a manner that promotes progress toward improving student academic achievement.

The plan must (1) detail the composition of the board by name and affiliation in accordance with the requirements described in section 203 of the TA Act and in the application instructions found in the application package, and (2) include a letter of commitment from each proposed board member. In the alternative to submitting a plan that meets the requirements in (1) and (2) in the previous sentence, an applicant may include, in its plan, a statement of commitment that it will comply with section 203(g) of the TA Act as well as a narrative statement of how the board will operate.

FOR FURTHER INFORMATION CONTACT: Enid Simmons, Office of School Support and Technology Programs, Office of Elementary and Secondary Education, 400 Maryland Avenue, SW., room 3E307, Washington, DC 20202-6135. Telephone: (202) 708-9499 or via the Internet: enid.simmons@ed.gov.

If you use a telecommunications device for the deaf (TDD), you may call the Federal Relay Service (FRS) at 1-800-877-8339.

Individuals with disabilities may obtain this document in an alternative format (e.g., Braille, large print, audiotape, or computer diskette) or request to the contact person listed under FOR FURTHER INFORMATION CONTACT.

Electronic Access to This Document: You may view this document, as well as all other documents of this Department published in the Federal Register, in text or Adobe Portable Document Format (PDF) on the Internet at the following site: http://www.ed.gov/news/fedregister.

To use PDF you must have Adobe Acrobat Reader, which is available free at this site. If you have questions about using PDF, call the U.S. Government Printing Office (GPO), toll free, at 1-888-293-6498; or in the Washington, DC, area at (202) 512-1530.

Note: The official version of this document is the document published in the Federal Register. Free Internet access to the official edition of the Federal Register and the Code of Federal Regulations is available on GPO Access at: http://www.gpoaccess.gov/nara/index.html.

Dated: June 14, 2005.
Raymond Simon,
Assistant Secretary for Elementary and Secondary Education.

[FR Doc. 05-12101 Filed 6-17-05; 8:45 am]

BILLING CODE 4000-01-P